COMMISSION ON CIVIL RIGHTS

Agenda and Notice of Public Meeting of the Vermont Advisory Committee

Notice is hereby given, pursuant to the provisions of the rules and regulations of the U.S. Commission on Civil Rights, that a meeting of the Vermont Committee to the Commission will convene at 10:45 a.m. and adjourn at 2:45 p.m. on Friday, September 21, 2001, at the Burlington International Airport, Hamilton Room-One Flight Up Restaurant, 1200 Airport Drive, South Burlington, Vermont 05430. The Advisory Committee will hold a planning meeting to review its draft project proposal, discuss future coordination with educational leaders, and plan its next project activity.

Persons desiring additional information, or planning a presentation to the Committee, should contact Marc Pentino, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 29, 2001.
Ivy L. Davis,
Chief, Regional Programs Coordination Unit.

[FR Doc. 01-22211 Filed 9-4-01; 8:45 am]

BILLING CODE 6335-01-P